DEPARTMENT OF COMMERCE

Patent and Trademark Office

[Docket No. PTO-T-2009-0024]

Notice of Reformatted Trademark Registration Certificate

AGENCY: United States Patent and Trademark Office, Commerce.

ACTION: Notice.

SUMMARY: The United States Patent and Trademark Office (“Office”) is reformatting the certificates of registration issued for registered marks.

DATES: The reformatted registration certificates will begin issuing in September 2009.

ADDRESSES: The Office prefers that any comments on this notice be submitted via electronic mail message to TMFRNotices@uspto.gov. Written comments may also be submitted by mail to Commissioner for Trademarks, P.O. Box 1451, Alexandria, VA 22313-1451, attention Cynthia C. Lynch; or by hand delivery to the Trademark Assistance Center, Concourse Level, James Madison Building-East Wing, 600 Dulany Street, Alexandria, Virginia, attention Cynthia C. Lynch.

FOR FURTHER INFORMATION CONTACT: Cynthia C. Lynch, Office of the Deputy Commissioner for Trademark Examination Policy, by telephone at (571) 272-8742.

SUPPLEMENTARY INFORMATION: To streamline the issuance of registration certificates, pursuant to 15 U.S.C. 1057(a), 1093 and 37 CFR 2.151, and for purposes of cost containment, modernization and efficiency, the Office will be reformatting the certificates of registration for marks registered both on the principal register and the supplemental register. Specifically, (1) the certificates will be printed on standard-size 8½ by 11-inch paper, rather than the custom-size paper on which they are currently printed; (2) the folder that is part of the current certificate will be eliminated; (3) the signature of the Director and the seal of the Office, which currently appear on the folder, will appear on the first page of the reformatted certificate; and (4) registration maintenance information, which currently appears on the folder, will appear on the final page of the reformatted certificate. The Office intends to begin issuing the reformatted certificates in September 2009. In advance of the change, the Office will post on its Web site an example of the reformatted certificate in August 2009.

Dated: July 10, 2009.
John J. Doll,
Acting Under Secretary of Commerce for Intellectual Property and Acting Director of the United States Patent and Trademark Office.

[FR Doc. E9-16878 Filed 7-15-09; 8:45 am]

BILLING CODE 3510-16-P